FEDERAL ELECTION COMMISSION

Sunshine Act Meeting

Federal Register CITATION NOTICE OF PREVIOUS ANNOUNCEMENT: 84 FR 16671

PREVIOUSLY ANNOUNCED TIME, DATE, AND PLACE OF THE MEETING: Thursday, April 25, 2019 at 10:00 a.m., 1050 First Street NE, Washington, DC (12th FLOOR).

CHANGES IN THE MEETING: The following matters were also considered:

Preliminary Discussion of Report on the Investigation into Russian Interference in the 2016 Presidential Election.

Audit Division Recommendation Memorandum on the New Jersey Republican State Committee (A17-17).

CONTACT PERSON FOR MORE INFORMATION: Judith Ingram, Press Officer, Telephone: (202) 694-1220.

Dayna C. Brown,
Secretary and Clerk of the Commission.

[FR Doc. 2019-08772 Filed 4-25-19; 4:15 pm]

BILLING CODE 6715-01-P